FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017649NF.

Name: Access Freight Forwarders, Inc.

Address: 8220 NW 30th Terrace, Miami, FL 33122.

Date Revoked: June 30, 2004.

Reason: Failed to maintain valid bonds.

License Number: 000109F.

Name: Brittain International, Inc.

Address: 5845 East 14th Street, Brownsville, TX 78521.

Date Revoked: June 16, 2004.

Reason: Failed to maintain a valid bond.

License Number: 004486F.

Name: Challenge Warehousing, Inc.

Address: 1217 SW 1st Avenue, Fort Lauderdale, FL 33315.

Date Revoked: June 24, 2004.

Reason: Failed to maintain a valid bond.

License Number: 016201N.

Name: Delta Line International, Inc.

Address: 8353 NW 68th Street, Miami, FL 33166.

Date Revoked: June 26, 2004.

Reason: Failed to maintain a valid bond.

License Number: 014600N.

Name: Domar Enterprises, Inc. dba SGL Lines.

Address: 2534 Walnut Bend Lane, Suite C, Houston, TX 77042.

Date Revoked: June 27, 2004.

Reason: Failed to maintain a valid bond.

License Number: 017378N.

Name: E.M.W. Freight Forwarding Corp.

Address: 8601 NW 72nd Street, Miami, FL 33166.

Date Revoked: June 13, 2004.

Reason: Failed to maintain a valid bond.

License Number: 017507N.

Name: Eco Freight International Corporation.

Address: 5422 W. Rosecrans Avenue, Hawthorne, CA 90250.

Date Revoked: May 24, 2004.

Reason: Surrendered license voluntarily.

License Number: 003661F.

Name: Expressair Cargo, Inc.

Address: 11091 NW 27th Street, Miami, FL 33172.

Date Revoked: March 27, 2003.

Reason: Failed to maintain a valid bond.

License Number: 004638F.

Name: FITS Limited Liability Company.

Address: 1923 Lakeville Drive, Kingwood, TX 77339.

Date Revoked: June 9, 2004.

Reason: Failed to maintain a valid bond.

License Number: 015897NF.

Name: FTS International, Inc.

Address: 145-52 157th Street, Jamaica, NY 11434.

Date Revoked: October 4, 2003.

Reason: Failed to maintain valid bonds.

License Number: 004348NF.

Name: Freight Solutions International, LLC dba O.F.S. Line.

Address: 19900 South Vermont Avenue, Unit E, Torrance, CA 90502.

Date Revoked: April 8, 2004.

Reason: Surrendered license voluntarily.

License Number: 018130NF.

Name: Global Worldwide, Inc.

Address: 4808 Kroemer Road, Fort Wayne, IN 46818.

Date Revoked: June 24, 2004.

Reason: Surrendered license voluntarily.

License Number: 000087NF.

Name: J.E. Lowden & Co. dba Lightning Carriers.

Address: 275 Battery Street, Suite 400, San Francisco, CA 94111.

Date Revoked: June 17, 2004.

Reason: Failed to maintain valid bonds.

License Number: 016962N.

Name: Logistics Consultants Incorporated.

Address: 220 W. Ivy Avenue, Inglewood, CA 90202.

Date Revoked: April 8, 2004.

Reason: Surrendered license voluntarily.

License Number: 002957F.

Name: Michael J. Loprimo.

Address: 1078 Route 112, Suite 112, Port Jefferson, NY 11776.

Date Revoked: June 17, 2004.

Reason: Failed to maintain a vailid bond.

License Number: 002769F.

Name: New York Forwarding Services Inc.

Address: 330 Snyder Avenue, Berkeley Heights, NJ 07922.

Date Revoked: June 24, 2004.

Reason: Failed to maintain a valid bond.

License Number: 012757N.

Name: Ocean Conco Line, Inc.

Address: 39 Broadway, Suite 750, New York, NY 10004.

Date Revoked: June 20, 2004.

Reason: Failed to maintain a valid bond.

License Number: 003970F.

Name: Paula Solano dba Solano International.

Address: 347 Third Avenue, Bellmawr, NJ 08031.

Date Revoked: June 24, 2004.

Reason: Failed to maintain a valid bond.

License Number: 004163NF.

Name: Rimtech Int'l Transport.

Address: 20675 S. Western Avenue, Suite 206, Torrance, CA 90501.

Date Revoked: June 25, 2004.

Reason: Failed to maintain valid bonds.

License Number: 002466F.

Name: Seven Seas Consultants, Inc. dba Seven Seas Consultants.

Address: 3503 Cedar Knolls Drive, Suite A, Kingwood, TX 77339.

Date Revoked: June 11, 2004.

Reason: Failed to maintain a valid bond.

License Number: 003009NF.

Name: Super Freight International, Inc.

Address: 630 N. Edgewood Avenue, Wood Dale, IL 60191.

Date Revoked: June 11, 2004.

Reason: Failed to maintain a valid bond.

Sandra L. Kusumoto,
Director, Bureau of Consumer Complaints and Licensing.

[FR Doc. 04-15993 Filed 7-14-04; 8:45 am]

BILLING CODE 6730-01-P